DEPARTMENT OF DEFENSE

Office of the Secretary

Proposed Collection; Comment Request

AGENCY: Office of the Under Secretary of Defense for Personnel and Readiness, DoD.

ACTION: Notice.

In compliance with Section 3506(c)(2)(A) of the Paperwork Reduction Act of 1995, the Office of the Under Secretary of Defense for Personnel and Readiness announces the following proposed new public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by July 18, 2005.

ADDRESSES: Written comments and recommmendations on the proposed information collection should be sent to the Principal Deputy Under Secretary of Defense for Personnel and Readiness, Morale, Welfare and Recreation Policy Directorate, 241 S. 18th Street, Arlington, VA 22202; ATTN: Colonel Michael A. Pachuta, e-mail: Michael.Pachuta@osd.mil or James Ellis, e-mail: james.ellis@osd.mil; telephone (703) 602-5001.

FOR FURTHER INFORMATION CONTACT: To request more information on this proposed information collection or to obtain a copy of the proposal and associated collection instruments, please write to the above address or call (703) 602-5001.

Title and OMB Control Number: Commercial Solicitation on DoD Installation: Overseas; OMB CONTROL NUMBER 0704-TBD.

Needs and Uses: No person has authority to enter upon a DoD installation to transact personal commercial solicitation as a matter of right without meeting specific requirements. This information collection is necessary to ensure established annual procedures for the DoD registration requirement for the sale of insurance and securities on U.S. military overseas installations are met. Insurers are required to submit a letter of application certifying that they meet registration criteria. The letter received from the applicants provides information relative to the areas they intend to do business in, attest to their company's ability to pay claims as well as their rating within the insurance industry for the preceding business year. It also attests to their compliance with Department policies and procedures.

Affected Public: Business or other-for profit; Federal government.

Annual Burden Hours: 5.

Number of Respondents: 15.

Responses Per Respondent: 1.

Average Burden Pre Response: 20 minutes.

Frequency: Annually.

Supplementary Information:

Summary of Information Collection

The purpose of this information collection is to assist the Secretary of Defense and Secretaries of the Military Departments in ensuring that established procedures are in place to protect our Service personnel from unscrupulous business people who would take advantage through the sale of insurance and financial products that may not meet their needs. On an annual basis, insurance companies will be required to complete a standard letter application, which is signed by the President, Vice President, or designated official of the insurance company, containing certifying statements that the company is in compliance with DoD criteria to register (or re-register) for solicitation privileges on overseas U.S. military installations. The registration application is forwarded to the Principal Deputy Under Secretary of Defense for Personnel and Readiness for approval to grant the insurance company solicitation privileges on overseas U.S. military installations.

Dated: May 11, 2005.
Patricia L. Toppings,
Alternate OSD Federal Register Liaison Officer, Department of Defense.

[FR Doc. 05-9820 Filed 5-17-05; 8:45 am]

BILLING CODE 5001-06-M